OFFICE OF PERSONNEL MANAGEMENT

Submission for Review: Financial Resources Questionnaire (RI 34-1, RI 34-17, and RI 34-18) and Notice of Amount Due Because of Annuity Overpayment (RI 34-3, RI 34-19, and RI 34-20)

AGENCY: Office of Personnel Management.

ACTION: 30-Day notice and request for comments.

SUMMARY: Retirement Services, Office of Personnel Management (OPM) offers the general public and other federal agencies the opportunity to comment on an expiring information collection request (ICR) with minor edits, Financial Resources Questionnaire (RI 34-1, RI 34-17, and RI 34-18) and Notice of Amount Due Because Of Annuity Overpayment (RI 34-3, RI 34-19, and RI 34-20).

DATES: Comments are encouraged and will be accepted until September 22, 2021.

ADDRESSES: Interested persons are invited to submit written comments on the proposed information collection to the Office of Information and Regulatory Affairs, Office of Management and Budget, 725 17th Street NW, Washington, DC 20503, Attention: Desk Officer for the Office of Personnel Management or sent via electronic mail to: oira_submission@omb.eop.gov or faxed to (202) 395-6974.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to: Cyrus.Benson@opm.gov or faxed to (202) 606-0910 or reached via telephone at (202) 606-4808.

SUPPLEMENTARY INFORMATION: As required by the Paperwork Reduction Act of 1995, (Pub. L. 104-13, 44 U.S.C. chapter 35) as amended by the Clinger-Cohen Act (Pub. L. 104-106), OPM is soliciting comments for this collection. The information collection (OMB No. 3206-0167) was previously published in the Federal Register on June 8, 2021, at 86 FR 30503, allowing for a 60-day public comment period. No comments were received for this collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Financial Resources Questionnaire (RI 34-1), Financial Resources Questionnaire—Federal Employees' Group Life Insurance Premiums Underpaid (RI 34-17), and Financial Resources Questionnaire—Federal Employees Health Benefits Premiums Underpaid (RI 34-18), collects detailed financial information for use by OPM to determine whether to agree to a waiver, compromise, or adjustment of the collection of erroneous payments from the Civil Service Retirement and Disability Fund. Notice of Amount Due Because Of Annuity Overpayment (RI 34-3), Notice of Amount Due Because of FEGLI Premium Underpayment (RI 34-19), and Notice of Amount Due Because of FEHB Premium Underpayment (RI 34-20), informs the annuitant about the overpayment and collects information from the annuitant about how repayment will be made.

Analysis

Agency: Retirement Operations, Retirement Services, Office of Personnel Management.

Title: Financial Resources Questionnaire/Notice of Debt Due Because of Annuity Overpayment.

OMB Number: 3206-0167.

Frequency: On occasion.

Affected Public: Individuals or Households.

Number of Respondents: 2,361.

Estimated Time per Respondent: 60 minutes.

Total Burden Hours: 2,361 hours.

U.S. Office of Personnel Management.
Kellie Cosgrove Riley,
Director, Office of Privacy and Information Management.

[FR Doc. 2021-18064 Filed 8-20-21; 8:45 am]

BILLING CODE 6325-38-P